DEPARTMENT OF STATE

[Public Notice: 11036]

Determination Under Section 620G(b) of the Foreign Assistance Act of 1961

Pursuant to section 620G(b) of the Foreign Assistance Act of 1961 (FAA), Executive Order 12163, as amended by the Executive Order 13346, and Delegation of Authority No. 245-2, I hereby determine that furnishing assistance to the Governments of Canada, Egypt, France, Germany, Italy, Kuwait, the Netherlands, Norway, Qatar, Saudi Arabia, Sweden the United Arab Emirates, and the United Kingdom is important to the national interests of the United States and thereby waive, with respect to these governments, the application of section 620G(a) of the FAA.

This Determination shall be published in the Federal Register and, along with the accompanying Memorandum of Justification, shall be reported to Congress.

Dated: January 28, 2020.
Stephen E. Biegun,
Deputy Secretary of State.

[FR Doc. 2020-02879 Filed 2-12-20; 8:45 am]

BILLING CODE 4710-26-P